DEPARTMENT OF EDUCATION

[CFDA No. 84.031P]

Predominantly Black Institutions Formula Grant Program

ACTION: Notice inviting applications for new awards for fiscal year (FY) 2010; Correction.

SUMMARY: On June 21, 2010, we published in the Federal Register (75 FR 34994) a notice inviting applications for new awards for FY 2010 for the Predominantly Black Institutions Formula Grant Program (PBI Notice). The PBI Notice incorrectly indicated that this program was subject to intergovernmental review under Executive Order 12372 and 34 CFR part 79, and established deadlines for the completion of intergovernmental review.

SUPPLEMENTARY INFORMATION:

Correction

This notice corrects the PBI Notice by removing the deadlines for intergovernmental review and revising language about the applicability of provisions regarding intergovernmental review to this program. Accordingly, the Department is making the following corrections to the PBI Notice:

1. On page 34994, second column, the Deadline for Intergovernmental Review heading and date are removed.

2. On page 34995, second column, the Deadline for Intergovernmental Review heading and date are removed.

3. On page 34995, second column, the two sentences under the heading 4. Intergovernmental Review, are removed and the following sentence is substituted in its place:

“This program is not subject to Executive Order 12372 and the regulations in 34 CFR part 79.”

FOR FURTHER INFORMATION CONTACT: Sara Starke, Teacher and Student Development Programs Service, U.S. Department of Education, 1990 K Street, NW., room 6019, Washington, DC 20006-8524. Telephone: (202) 502-7688, or by e-mail: sara.starke@ed.gov.

If you use a telecommunications device for the deaf (TDD), call the Federal Relay Service (FRS), toll free, at 1-800-877-8339.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Delegation of Authority: The Secretary of Education has delegated authority to Daniel T. Madzelan, Director, Forecasting and Policy Analysis for the Office of Postsecondary Education, to perform the functions and duties of the Assistant Secretary for Postsecondary Education.

Dated: June 30, 2010.
Daniel T. Madzelan,
Director, Forecasting and Policy Analysis.

[FR Doc. 2010-16376 Filed 7-2-10; 8:45 am]

BILLING CODE 4000-01-P